DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting one administrative supplement in scope of the parent award to the State Opioid Response (SOR)/Tribal Opioid Response (TOR) Technical Assistance Grant recipient, the American Academy of Addiction Psychiatry (AAAP) funded in FY 2022 under Notice of Funding Opportunity (NOFO) TI-22-007 to provide training and technical assistance to federally-recognized Tribes and Tribal organizations.

FOR FURTHER INFORMATION CONTACT: William Longinetti, Substance Abuse and Mental Health Services Administration, 5600 Fishers Lane, Rockville, MD 20857, telephone 240-276-1190; email: William.longinetti@samhsa.hhs.gov.

SUPPLEMENTARY INFORMATION:

Funding Opportunity Title: FY 2022 State Opioid Response (SOR)/Tribal Opioid Response (TOR) Technical Assistance TI-22-007.

Assistance Listing Number: 93.243.

Authority: Section 509 of the Public Health Service Act, as amended.

Justification: This is not a formal request for application. Assistance will only be provided to the American Academy of Addiction Psychiatry (AAAP) to provide webinar trainings and technical assistance based on the receipt of a satisfactory application and associated budget that is approved by a review group. AAAP has already established a network of TA providers, as well as linkages with Tribes and Tribal organizations, and this assistance will augment these preexisting resources and relationships.

Dated: June 15, 2023.
Ann Ferrero,
Public Health Analyst.

[FR Doc. 2023-13146 Filed 6-20-23; 8:45 am]

BILLING CODE 4162-20-P